DEPARTMENT OF HEALTH AND HUMAN SERVICES

National Institutes of Health

Office of the Director; National Institutes of Health Notice of Meeting

Notice is hereby given of a change in the meeting of the HEAL (Helping to End Addiction Long-Term) Multi-Disciplinary Working Group, September 01, 2021, 10:30 a.m. to September 02, 2021, 03:45 p.m., National Institutes of Health, Building 1, Wilson Hall, 1 Center Drive, Bethesda, MD 20892 which was published in the Federal Register on August 10, 2021, FR Doc 2021-17012, 86 FR 43669.

This notice is being amended to update the meeting times for the HEAL Multi-Disciplinary Working Group Meeting on September 1-2, 2021. Open: September 01, 2021, 11:00 a.m. to 12:00 p.m.; Closed: September 01, 2021, 12:00 p.m. to 4:30 p.m.; Closed: September 02, 2021, 11:00 a.m. to 4:30 p.m. The meeting is partially Closed to the public. The open portion of the meeting will be live webcast at: https://videocast.nih.gov/.

Dated: August 18, 2021.
Tyeshia M. Roberson-Curtis,
Program Analyst, Office of Federal Advisory Committee Policy.

[FR Doc. 2021-18048 Filed 8-20-21; 8:45 am]

BILLING CODE 4140-01-P